DEPARTMENT OF HOMELAND SECURITY

Coast Guard

DEPARTMENT OF TRANSPORTATION

Maritime Administration

[USCG-2005-21232]

Beacon Port Liquefied Natural Gas Deepwater Port License Application; Draft Environmental Impact Statement

AGENCY: Coast Guard, DHS; Maritime Administration, DOT.

ACTION: Notice of availability; notice of public meeting; request for comments.

SUMMARY: The Coast Guard and the Maritime Administration (MARAD) announce the availability of the draft environmental impact statement (DEIS) for this license application. The application describes a project that would be located in the Gulf of Mexico, in lease block High Island Area 27, on the outer Continental Shelf (OCS). The Main Terminal would be located approximately 45 miles South of High Island and 50 miles East-Southeast of Galveston, Texas, with a riser platform in lease block West Cameron 167, approximately 27 miles South of Holly Beach and 29 miles South-Southeast of Johnson's Bayou, Louisiana. The Coast Guard and MARAD request public comments on the DEIS.

DATES: The public meeting in Lafayette, Louisiana will be held on March 21, 2006; the public meeting in Galveston, Texas will be held on March 22, 2006; and the public meeting in Corpus Christi, Texas will be held on March 23, 2006. Each public meeting will be held from 5 p.m. to 7 p.m., and will be preceded by an open house from 3 p.m. to 4:30 p.m. The public meeting may end later than the stated time, depending on the number of persons wishing to speak. Material submitted in response to the request for comments must reach the Docket Management Facility on or before April 17, 2006.

ADDRESSES: The public meeting and informational open house will be held at:

Holiday Inn Central, 2032 NE. Evangeline Thruway, Lafayette, LA 70501; telephone 337-233-6815; Galveston Island Convention Center at the San Luis Resort, 5600 Seawall Boulevard, Galveston, TX 77551, telephone 409-763-6564; and Omni Bayfront Tower, 900 North Shoreline Boulevard, Corpus Christi, TX 78401; telephone 361-887-1600.

Address docket submissions for USCG-2005-21232 to: Docket Management Facility, U.S. Department of Transportation, 400 Seventh Street, SW., Washington, DC 20590-0001.

The Docket Management Facility accepts hand-delivered submissions, and makes docket contents available for public inspection and copying, at this address, in room PL-401, between 9 a.m. and 5 p.m., Monday through Friday, except Federal holidays. The Facility's telephone is 202-366-9329, its fax is 202-493-2251, and its Web site for electronic submissions or for electronic access to docket contents is http://dms.dot.gov.

FOR FURTHER INFORMATION CONTACT: Ray Martin, U.S. Coast Guard, telephone: 202-267-1683, e-mail: rmartin@comdt.uscg.mil. If you have questions on viewing the docket, call Renee V. Wright, Program Manager, Docket Operations, telephone: 202-493-0402.

SUPPLEMENTARY INFORMATION:

Public Meeting and Open House

We invite you to learn about the proposed deepwater port at the informational open house, and to comment at the public meeting on the proposed action and the evaluation contained in the DEIS.

Please notify the Coast Guard (see FOR FURTHER INFORMATION CONTACT) if you wish to speak at the public meeting. In order to allow everyone a chance to speak, we may limit speaker time, or extend the meeting hours, or both. You must identify yourself, and any organization you represent, by name. Your remarks will be recorded or transcribed for inclusion in the public docket.

You may submit written material at the public meeting, either in place of or in addition to speaking. Written material must include your name and address, and will be included in the public docket.

Public docket materials will be made available to the public on the Docket Management Facility's Docket Management System (DMS). See “Request for Comments” for information about DMS and your rights under the Privacy Act.

If you plan to attend either the open house or the public meeting, and need special assistance such as sign language interpretation or other reasonable accommodation, please notify the Coast Guard (see FOR FURTHER INFORMATION CONTACT) at least 3 business days in advance. Include your contact information as well as information about your specific needs.

Request for Comments

We request public comments or other relevant information on the DEIS. The public meeting is not the only opportunity you have to comment on the DEIS. In addition to or in place of attending the meeting, you can submit material to the Docket Management Facility during the public comment period (see DATES). The Coast Guard will consider all comments submitted during the public comment period, and then will prepare the final EIS. We will announce the availability of the final EIS and once again give you an opportunity for review and comment. (If you want that notice to be sent to you, please contact the Coast Guard contact person identified in FOR FURTHER INFORMATION CONTACT.) Submissions should include:

• Docket number USCG-2005-21232.

• Your name and address.

• Your reasons for making each comment or for bringing information to our attention.

Submit comments or material using only one of the following methods:

• Electronic submission to DMS, http://dms.dot.gov.

• Fax, mail, or hand delivery to the Docket Management Facility (see ADDRESSES). Faxed or hand delivered submissions must be unbound, no larger than 8½ by 11 inches, and suitable for copying and electronic scanning. If you mail your submission and want to know when it reaches the Facility, include a stamped, self-addressed postcard or envelope.

Regardless of the method used for submitting comments or material, all submissions will be posted, without change, to the DMS Web site (http://dms.dot.gov), and will include any personal information you provide. Therefore, submitting this information makes it public. You may wish to read the Privacy Act notice that is available on the DMS Web site, or the Department of Transportation Privacy Act Statement that appeared in the Federal Register on April 11, 2000 (65 FR 19477).

You may view docket submissions at the Docket Management Facility (see ADDRESSES), or electronically on the DMS Web site.

SUPPLEMENTARY INFORMATION:

Proposed Action

We published a notice of intent to prepare an EIS for the proposed liquefied natural gas (LNG) deepwater port at 70 FR 33916, June 10, 2005. The proposed action requiring environmental review is the Federal licensing of the proposed deepwater port described in “Summary of the Application” below, which is reprinted from previous Federal Register notices in this docket.

Alternatives to the Proposed Action

The alternatives to licensing are: (1) Licensing with conditions (including conditions designed to mitigate environmental impact), and (2) denying the application, which for purposes of environmental review is the “no-action” alternative. These alternatives are more fully discussed in the DEIS.

Summary of the Application

The application plan calls for the proposed deepwater port terminal to be located outside State waters in the Gulf of Mexico on the U.S. Outer Continental Shelf (OCS). Beacon Port would consist of a Main Terminal, Riser Platform, and connecting pipelines. The Main Terminal would be located approximately 50 miles (80 km) off the coast, East-Southeast of Galveston, TX (approximately 45 miles (72 km) South of High Island, TX) in OCS lease block High Island Area 27 (HIA 27). The Riser Platform would be located approximately 29 miles off the coast, South-Southeast of Johnson's Bayou, LA (approximately 27 miles South of Holly Beach, LA) in OCS lease block West Cameron 167 (WC 167). Beacon Port would serve as an LNG receiving, storage, and regasification facility. The Main Terminal would be located in water depth of approximately 65 feet (20 m).

The proposed Beacon Port Main Terminal would include: Two concrete Gravity Based Structures (GBS) that would contain the LNG storage tanks, LNG carrier berthing provisions, LNG unloading arms, low and high pressure pumps, vaporizers, metering, utility systems, general facilities and accommodations. The Main Terminal would be able to receive LNG carriers with cargo capacities of up to 253,000 cubic meters. LNG carrier arrival frequency would be planned to match specified terminal gas delivery rates. The terminal would have storage capacity for up to 300,000 cubic meters of LNG (150,000 cubic meters per tank) on site.

Regasification of LNG would be accomplished through the use of open rack vaporizers (ORVs). In normal operation, four pumps would operate with a combined total flow rate of approximately 167.5 million gallons of sea water per day (26,400 m³/hr). At peak operation, five pumps would operate with a combined total flow rate of approximately 203 million gallons of sea water per day (32,000 m³/hr).

Beacon Port proposes the installation of approximately 46 miles of offshore natural gas transmission pipeline on the OCS. A 42-inch diameter pipeline would connect the Main Terminal with the Riser Platform. Three additional pipelines (24-inch, 20-inch, and 12.75-inch diameter) are proposed to connect the Riser Platform with existing gas distribution pipelines in the West Cameron (WC) 167 OCS block. The deepwater port would be designed to handle an average delivery of approximately 1.5 billion standard cubic feet per day (Bscfd) with a peak delivery of approximately 1.8 Bscfd.

Dated: February 24, 2006.
Howard L. Hime,
Acting Director of Standards, Assistant Commandant for Prevention, U.S. Coast Guard.

H. Keith Lesnick,
Senior Transportation Specialist, Deepwater Ports Program Manager, U.S. Maritime Administration.

[FR Doc. 06-2110 Filed 3-3-06; 8:45 am]

BILLING CODE 4910-15-P